DEPARTMENT OF LABOR

Office of the Secretary

Meeting of the Labor Advisory Committee for Trade Negotiation and Trade Policy

AGENCY: Bureau of International Labor Affairs, Office of the United States Trade Representative, U.S. Department of Labor.

ACTION: Meeting notice.

SUMMARY: Notice is hereby given of a meeting of the Labor Advisory Committee for Trade Negotiation and Trade Policy.

DATES: January 18, 2018, 1:00 p.m. to 2:30 p.m.; U.S. Department of Labor, Secretary's Conference Room, 200 Constitution Ave. NW, Washington, DC.

FOR FURTHER INFORMATION CONTACT: Anne M. Zollner, Chief, Trade Policy and Negotiations Division; Phone: (202) 693-4890.

SUPPLEMENTARY INFORMATION: The meeting will include a review and discussion of current issues which influence U.S. trade policy. Potential U.S. negotiating objectives and bargaining positions in current and anticipated trade negotiations will be discussed. Pursuant to 19 U.S.C. 2155(f)(2)(A), it has been determined that the meeting will be concerned with matters the disclosure of which would seriously compromise the Government's negotiating objectives or bargaining positions. Therefore, the meeting is exempt from the requirements of subsections (a) and (b) of sections 10 and 11 of the Federal Advisory Committee Act (relating to open meetings, public notice, public participation, and public availability of documents). 5 U.S.C. app. Accordingly, the meeting will be closed to the public.

Signed at Washington, DC, the 19th day of December 2017.
Martha E. Newton,
Deputy Undersecretary, Bureau of International Labor Affairs.

[FR Doc. 2017-27742 Filed 12-22-17; 8:45 am]

BILLING CODE 4510-28-P